FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 011707-008.

Title: Gulf/South America Discussion Agreement.

Parties: BBC Chartering & Logistic GMBH & Co. KG; Industrial Maritime Carriers LLC; Seaboard Marine, Ltd.; and West Coast Industrial Express, LLC.

Filing Party: Wade S. Hooker, Esq.; 211 Central Park W; New York, NY 10024.

Synopsis: The amendment removes West Coast Industrial Express as a party to the agreement.

Agreement No.: 012115-001.

Title: HSDG-CCNI USWC-Europe Vessel Sharing Agreement.

Parties: Compania Chilena De Navegacion Interoceanica, S.A and Hamburg Sudamerikanische Dampfschiffahrts-Gesellschaft KG.

Filing Party: Wade S. Hooker, Esq.; 211 Central Park W; New York, NY 10024.

Synopsis: The amendment deletes Europe, Canada, Panama, and portions of the U.S. West Coast from the geographic scope of the agreement, reduces the number of vessels to be operated by the parties, revises the space allocations of the parties, and renames and restates the agreement.

Agreement No.: 012149.

Title: MSC/CMA CGM U.S. East Coast-West Coast South America Space Charter Agreement.

Parties: MSC Mediterranean Shipping Company, S.A. and CMA CGM, S.A.

Filing Party: Marc J. Fink, Esquire; Cozen O'Connor; 1627 I Street NW., Suite 1100; Washington, DC 20006-4007.

Synopsis: The agreement authorizes Med Shipping to charter space to CMA in the trade between the U.S. East Coast and the Bahamas, on the one hand, and the West Coast of South America, on the other.

By Order of the Federal Maritime Commission.
Dated: December 30, 2011.
Rachel E. Dickon,
Assistant Secretary.

[FR Doc. 2011-33808 Filed 1-4-12; 8:45 am]

BILLING CODE 6730-01-P